Proclamation 9986 of January 31, 2020

Career and Technical Education Month, 2020

By the President of the United States of America

A Proclamation

Our Nation's economy is booming, and Americans are thriving. To ensure that our country's workforce remains the best in the world, it is imperative that we equip students and workers with the skills necessary to fill the jobs our economy is creating at an incredible pace and to enable them to reap the benefits of successful careers. During Career and Technical Education Month, we reaffirm our commitment to expanding access to high-quality career and technical education for all Americans.

Career and technical education helps develop a 21st century workforce, providing students with the knowledge and technical skills needed to fill the jobs of the future. My Administration appreciates the value of career and technical education, which is why we continue to prioritize access to the best training and retraining opportunities for American students and workers. We are preparing our workforce to flourish amidst advances in technology and automation, and we are confident that with the right training, hardworking Americans can harness technology to do their jobs even better and faster than they do them today. In July 2018, I signed an Executive Order establishing the President's National Council for the American Worker to facilitate a much-needed partnership between education and business, which will help resolve pressing issues related to workforce development. As a part of the Council's work, my Administration is asking companies and trade groups throughout the country to sign our Pledge to America's Workers, committing themselves to refocusing resources to retrain our workforce and equip students and workers with the skills they need to be successful right here in the United States. Already, more than 400 businesses have signed the pledge and committed to creating 14.5 million enhanced employment, training, and education opportunities for American students and workers over the next 5 years.

We are living in an age of incredible progress, with an abundance of new career fields offering high-wage jobs, especially in science, technology, engineering, and mathematics. Career and technical education provides students with the in-demand skills required by these coveted positions, developing their talents and providing them with the tools to be successful in the modern economy. In July 2018, I was proud to sign the bipartisan reauthorization of the Carl D. Perkins Career and Technical Education Act, which is benefiting more than 11 million students. This critical legislation is modernizing and increasing access to career and technical education programs, providing students and workers with the necessary training that will strengthen our Nation's economic competitiveness. Given the importance of career and technical education, my fiscal year 2021 budget proposal to the Congress will include significant increases in funding for these programs.

This month, we draw attention to the importance of career and technical education in building a stronger American workforce. Our Nation's students and workers are helping to write the next chapter in our proud American legacy of ingenuity and innovation. We will continue to pursue approaches that best fit the needs of individual students and workers and prepare them to unlock their full potential.

NOW, THEREFORE, I, DONALD J. TRUMP, President of the United States of America, by virtue of the authority vested in me by the Constitution and the laws of the United States, do hereby proclaim February 2020 as Career and Technical Education Month.

IN WITNESS WHEREOF, I have hereunto set my hand this thirty-first day of January, in the year of our Lord two thousand twenty, and of the Independence of the United States of America the two hundred and forty-fourth.

[FR Doc. 2020-02428

Filed 2-4-20; 11:15 am]

Billing code 3295-F0-P